DEPARTMENT OF DEFENSE

GENERAL SERVICES ADMINISTRATION

NATIONAL AERONAUTICS AND SPACE ADMINISTRATION

48 CFR Chapter 1

[Docket FAR 2012-0080, Sequence 6]

Federal Acquisition Regulation; Federal Acquisition Circular 2005-61; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2005-61. A companion document, the Small Entity Compliance Guide (SECG), follows this FAC. The FAC, including the SECG, is available via the Internet at http://www.regulations.gov.

DATES: For effective dates and comment dates see separate documents, which follow.

FOR FURTHER INFORMATION CONTACT: The analyst whose name appears in the table below in relation to each FAR case. Please cite FAC 2005-61 and the specific FAR case numbers. For information pertaining to status or publication schedules, contact the Regulatory Secretariat at 202-501-4755.

List of Rules in FAC 2005-61
Item | Subject | FAR Case | Analyst
I | United States—Korea Free Trade Agreement | 2012-004 | Davis.
II | Delete Outdated FAR Reference Lague to the DoD Industrial Preparedness Program | 2012-026 | Lague.
III | NAICS and Size Standards | 2012-021 | Morgan.
IV | Bid Protest and Appeal Authorities | 2012-008 | Loeb.
V | Technical Amendments.

SUPPLEMENTARY INFORMATION: Summaries for each FAR rule follow. For the actual revisions and/or amendments made by these FAR cases, refer to the specific item numbers and subjects set forth in the documents following these item summaries. FAC 2005-61 amends the FAR as specified below:

Item I—United States-Korea Free Trade Agreement (FAR Case 2012-004)

This final rule adopts without change the interim rule published in the Federal Register on March 7, 2012 (77 FR 13952), to implement the United States-Korea Free Trade Agreement. The Republic of Korea is already party to the World Trade Organization Government Procurement Agreement (WTO GPA). The Korea Free Trade Agreement now covers acquisition of supplies and services between $100,000 and the current WTO GPA threshold of $202,000. This final rule will not have a significant economic impact on a substantial number of small entities.

Item II—Delete Outdated FAR Reference to the DoD Industrial Preparedness Program (FAR Case 2012-026)

This final rule amends the FAR to delete outdated references to the “DoD Industrial Preparedness Program”, which is no longer in existence. There is no impact to the Government or small business because this program was discontinued in 1992.

Item III—NAICS and Size Standards (FAR Case 2012-021)

This final rule amends the FAR to clarify that new North American Industry Classification System codes are not available for use in Federal contracting until the Small Business Administration publishes corresponding industry size standards. Published size standards are available on the SBA's Web site and at 13 CFR 121.201. The clarifying language is provided for informational purposes and only addresses internal Government policies and procedures. This rule will not have a significant impact on the Government, and does not impose additional requirements on small businesses.

Item IV—Bid Protest and Appeal Authorities (FAR Case 2012-008)

This final rule amends FAR part 33 to note that there are other Federal-court related protest authorities and dispute-appeal authorities that are not covered by FAR part 33. This rule also provides contracting officers with appropriate references to their office of legal counsel and the Web site for the rules of the U.S. Court of Federal Claims. This is a final rule because it only impacts the Federal Government's internal operating procedures.

Item V—Technical Amendments

Editorial changes are made at FAR 7.403 and 15.404-1.

Dated: September 7, 2012.

Laura Auletta,

Director, Office of Governmentwide Acquisition Policy, Office of Acquisition Policy, Office of Governmentwide Policy.

Federal Acquisition Circular (FAC) 2005-61 is issued under the authority of the Secretary of Defense, the Administrator of General Services, and the Administrator for the National Aeronautics and Space Administration.

Unless otherwise specified, all Federal Acquisition Regulation (FAR) and other directive material contained in FAC 2005-61 is effective September 13, 2012, except for Item II and III which are effective October 15, 2012.

Dated: September 5, 2012.
Amy G. Williams,
Acting Deputy Director, Defense, Procurement and Acquisition Policy.
Dated: September 5, 2012.
Joseph A. Neurauter,
Senior Procurement Executive/Deputy CAO, Office of Acquisition Policy, U.S. General Services Administration.
Dated: September 5, 2012.
William P. McNally,
Assistant Administrator for Procurement, National Aeronautics and Space Administration.

[FR Doc. 2012-22572 Filed 9-12-12; 8:45 am]

BILLING CODE 6820-EP-P